FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Application to Become a Savings and Loan Holding Company or to Acquire a Savings Association or Savings and Loan Holding Company (FR LL-10(e); OMB No. 7100-0336).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above. On the page displayed at the link above, you can find the supporting information by referencing the collection identifier, FR LL-10(e).

Final Approval Under OMB Delegated Authority of the Extension for Three Years, Without Revision, of the Following Information Collection

Collection title: Application to Become a Savings and Loan Holding Company or to Acquire a Savings Association or Savings and Loan Holding Company.

Collection identifier: FR LL-10(e).

OMB control number: 7100-0336.

General description of collection: This information collection must be filed in connection with certain proposals involving the formation, acquisition, or merger of a savings and loan holding company (SLHC); the acquisition by an SLHC of a savings association or its assets; and the acquisition of control of a savings association by certain individuals associated with an SLHC. The Board requires the submission of this filing from an applicant for regulatory and supervisory purposes and to allow the Board to fulfill its statutory obligations to review these transactions under section 10(e) of the Home Owners' Loan Act (HOLA) (12 U.S.C. 1461 et seq.) and the Board's Regulation LL-Savings and Loan Holding Companies (12 CFR 238.11).

Frequency: Event generated.

Respondents: Entities seeking prior approval to become or acquire an SLHC or merge SLHCs; SLHCs seeking to acquire a savings association or all or substantially all of the assets of a savings association or SLHC; and directors or officers of an SLHC, or any individual who owns, controls, or holds the power to vote (or holds proxies representing) more than 25 percent of the voting shares of an SLHC seeking control of any savings association that is not a subsidiary of such SLHC.

Total estimated number of respondents: 7.

Total estimated annual burden hours: 428.

Current actions: On December 6, 2024, the Board published a notice in the Federal Register (89 FR 96974) requesting public comment for 60 days on the extension, without revision, of the FR LL-10(e). The comment period for this notice expired on February 4, 2025. The Board did not receive any comments.

Board of Governors of the Federal Reserve System, April 23, 2025.
Benjamin W. McDonough,
Deputy Secretary and Ombuds of the Board.

[FR Doc. 2025-07263 Filed 4-25-25; 8:45 am]

BILLING CODE 6210-01-P